DEPARTMENT OF COMMERCE

National Oceanic and Atmospheric Administration

Review of Nomination for Hudson Canyon National Marine Sanctuary

AGENCY: Office of National Marine Sanctuaries (ONMS), National Ocean Service (NOS), National Oceanic and Atmospheric Administration (NOAA), Department of Commerce (DOC).

ACTION: Notice; request for written comments.

SUMMARY: The National Oceanic and Atmospheric Administration (NOAA) is seeking written comments on its five-year review of the nomination for Hudson Canyon National Marine Sanctuary (NMS). Comments should focus solely on any new and relevant information relating to NOAA's 11 sanctuary nomination evaluation criteria. NOAA will pay particular attention to any additional details about the significance of the area's natural or cultural resources, changes to any threats to these resources, and evolving management efforts, or human uses in the proposed area (e.g., wind energy proposals in the area). NOAA will make a final determination on whether the Hudson Canyon NMS nomination remains relevant and responsive to the evaluation criteria after it analyzes the comments it receives and, if so, whether Hudson Canyon NMS is to remain in the nomination inventory for another five-year period. With this five-year review, NOAA is not seeking comments on whether to start the sanctuary designation process for the Hudson Canyon NMS proposal.

DATES: Comments are due by February 7, 2022.

ADDRESSES: Comments may be submitted by one of the following methods:

• Federal eRulemaking Portal: https://www.regulations.gov. Submit electronic comments via the Federal eRulemaking Portal and search for Docket Number NOAA-NOS-2022-0010.

• Mail: LeAnn Hogan, Regional Operations Coordinator, NOAA Sanctuaries Eastern Region, 1305 East West Highway, N/NMS, Silver Spring, MD 20910.

Email: LeAnn.Hogan@noaa.gov.

Instructions: All comments received are a part of the public record. All personally identifiable information (for example, name and address) voluntarily submitted by the commenter may be publicly accessible. Do not submit confidential business information or otherwise sensitive or protected information. NOAA will accept anonymous comments (enter N/A in the required fields to remain anonymous).

FOR FURTHER INFORMATION CONTACT: LeAnn Hogan, Regional Operations Coordinator, NOAA Sanctuaries Eastern Region, 1305 East-West Highway, N/NMS, Silver Spring, MD 20910, or at LeAnn.Hogan@noaa.gov, or 202-731-0678.

SUPPLEMENTARY INFORMATION:

Background Information

In June 2014, NOAA issued a final rule establishing the sanctuary nomination process (SNP), which details how communities may submit nominations to NOAA for consideration of national marine sanctuary designation (79 FR 33851). NOAA moves successful nominations to an inventory of areas that could be considered for national marine sanctuary designation. The final rule establishing the SNP included a five-year limit on any nomination added to the inventory that NOAA does not advance for designation.

In November 2019, NOAA issued a Federal Register notice (84 FR 61546) to clarify procedures for evaluating and updating a nomination as it approaches the five-year mark on the inventory of areas that could be considered for national marine sanctuary designation. This notice explained that if a nomination remains responsive to the evaluation criteria for inclusion on the inventory, NOAA could keep the nomination on the inventory for another five years. The notice also established a process for NOAA to consider the continuing viability of nominations nearing the five-year expiration mark. The nomination for Hudson Canyon proposal is scheduled to expire in February 2022. The full nomination can be found at https://nominate.noaa.gov/nominations/.

NOAA is not proposing to designate Hudson Canyon as a national marine sanctuary with this action. Instead, comments should identify any new or changing information relative to NOAA's 11 sanctuary nomination evaluation criteria (https://nominate.noaa.gov/guide.html). Comments that do not pertain to information supporting the evaluation criteria, or present new information on the Hudson Canyon NMS nomination, will not be considered in NOAA's decision on whether to retain this nomination in the inventory.

Should NOAA conclude that the Hudson Canyon NMS nomination no longer meets its evaluation criteria and decide to remove it from the inventory, NOAA would notify the nominator directly via letter, and the public via notice in the Federal Register and a web posting at “nominate.noaa.gov.”

Authority: 16 U.S.C. 1431 et seq.

John Armor,
Director, Office of National Marine Sanctuaries, National Ocean Service, National Oceanic and Atmospheric Administration

[FR Doc. 2022-01085 Filed 1-20-22; 8:45 am]

BILLING CODE 3510-NK-P